DEPARTMENT OF TRANSPORTATION

Federal Transit Administration

Transfer of Federally Assisted Facility

AGENCY: Federal Transit Administration (FTA), United States Department of Transportation (USDOT).

ACTION: Notice of Intent (NOI) to transfer federally assisted land or facility.

SUMMARY: Federal public transportation law permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal agencies that Pace Suburban Bus (Pace) intends to transfer the land and building located at 9 Osgood Street, Joliet, Illinois (hereinafter “the Subject Property”) to Will County, Illinois (hereinafter “the County”).

DATES: Effective Date: Any Federal agency interested in acquiring the facility must notify the FTA Region V Office of its interest no later than March 24, 2023.

ADDRESSES: Interested parties should notify the FTA Region V Office by writing to Kelley Brookins, Regional Administrator, Federal Transit Administration, 200 West Adams Street, Suite 320, Chicago, IL 60606.

FOR FURTHER INFORMATION CONTACT: Aruj Chaudhry, Regional Counsel, (312) 353-3869.

SUPPLEMENTARY INFORMATION:

Background

Federal public transportation law provides guidance on the transfer of capital assets. 49 U.S.C. 5334(h)(1)(A). Specifically, if a recipient of FTA assistance decides an asset acquired at least in part with assistance under 49 U.S.C. Chapter 53 is no longer needed for the purpose for which it was acquired, the Secretary of Transportation may authorize the recipient to transfer the asset to a local governmental authority to be used for a public purpose with no further obligation to the Government. 49 U.S.C. 5334(h)(1)(A).

Pace Suburban Bus (Pace) intends to transfer the land and building located at 9 Osgood Street, Joliet, Illinois (hereinafter “the Subject Property”) to Will County, Illinois (hereinafter “the County”). Pace used the Subject Property as a combined bus, administrative, and maintenance facility from 1983 to the present (39 years). Pace is relocating to another facility and has determined it no longer needs the Subject Property for public transportation purposes. The County plans to utilize the Subject Property for the County Sherriff's SWAT unit's administrative and training functions.

Determinations

The FTA Administrator may authorize a transfer for a public purpose other than mass transportation only if the FTA Administrator decides:

(A) The asset will remain in public use for at least 5 years after the date the asset is transferred;

(B) There is no purpose eligible for assistance under Chapter 53 of title 49, United States Code, for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This Notice implements the requirements of 49 U.S.C. 5334(h)(1)(A)(iv). Accordingly, FTA hereby provides notice of the availability of the Subject Property further described below. Any Federal agency interested in acquiring the Subject Property should promptly notify the FTA. If no Federal agency is interested in acquiring the Subject Property, FTA will make certain that the other requirements specified in 49 U.S.C. 5334(h)(1)(A)(i) through (iv) are met before permitting the asset to be transferred.

Additional Description of Land or Facility

The Subject Property is recognized with the Parcel Identification Numbers 30-07-15-118-001-0000, 30-07-15-108-020-0000, and 30-07-15-107-045-0000. The Subject Property is 2.2 acres, separated by a roadway. It includes a precast concrete, steel, and masonry structure that is 66,077 square feet, with 58,296 square feet on the ground level and 7,781 square feet on the mezzanine level. The structure comprises a masonry bearing wall building with barrel roof, wood rafters, and steel bow-string roof trusses constructed in 1926. In 1985, a bus garage addition was constructed with a structural steel frame, precast concrete wall panels, and a low slope roof. The building condition was recently assessed as adequate and was in use as a combined bus, administrative, and maintenance facility. Public utilities include gas, electric, and water.

Authority: 49 U.S.C. 5334(h)(1)(A), 49 CFR 1.91.

Kelley Brookins,
Regional Administrator, TRO-5.

[FR Doc. 2023-03602 Filed 2-21-23; 8:45 am]

BILLING CODE 4910-57-P